DEPARTMENT OF AGRICULTURE

Forest Service

Newspapers Used for Publication of Legal Notices by the Rocky Mountain Region: Colorado, Kansas, Nebraska, and Parts of South Dakota and Wyoming

AGENCY: Forest Service, Agriculture (USDA).

ACTION: Notice of newspapers of record.

SUMMARY: This notice lists the newspapers that will be used by the ranger districts, national forests and grasslands, and regional office of the Rocky Mountain Region to publish legal notices. The intended effect of this action is to inform interested members of the public which newspapers the Forest Service will use to publish notices of proposed actions and notices of decision. This will provide the public with constructive notice of Forest Service proposals and decisions, provide information on the procedures to comment, object or appeal, and establish the date that the Forest Service will use to determine if comments or objections were timely.

DATES: Publication of legal notices in the listed newspapers will begin on the date of this publication and continue until further notice.

ADDRESSES: Scarlett Vallaire, Regional Administrative Review Coordinator, Rocky Mountain Region, 1617 Cole Blvd., Bldg. 17, Lakewood, CO 80401.

FOR FURTHER INFORMATION CONTACT: Scarlett Vallaire, Regional Administrative Review Coordinator, by telephone at 801-989-6605 or by email at scarlett.vallaire@usda.gov.

SUPPLEMENTARY INFORMATION: The administrative procedures at 36 CFR parts 218 and 219 require the Forest Service to publish notices in a newspaper of general circulation. The content of the notices is specified in 36 CFR parts 218 and 219. In general, the notices will identify: the decision or project, by title or subject matter; the name and title of the official making the decision; how to obtain additional information; and where and how to file comments or objections. The date the notice is published will be used to establish the official date for the beginning of the comment or objection period. The newspapers to be used are as follows:

Regional Forester, Rocky Mountain Region

Regional Forester decisions affecting National Forests in Colorado, Kansas, Nebraska and those portions of South Dakota and Wyoming within the Rocky Mountain Region:

The Denver Post

Arapaho and Roosevelt National Forests and Pawnee National Grassland

Forest Supervisor decisions: Coloradoan

Canyon Lakes District Ranger decisions: Coloradoan

Pawnee District Ranger decisions: Greeley Tribune

Boulder District Ranger decisions: Daily Camera

Clear Creek District Ranger decisions: Clear Creek Courant. A “courtesy” copy will also be published in the Mountain Ear

Sulphur District Ranger decisions: Sky-Hi News

Bighorn National Forest

Forest Supervisor and District Ranger decisions: Casper Star-Tribune

Black Hills National Forest

Forest Supervisor decisions: The Rapid City Journal

Bearlodge District Ranger decisions: Sundance Times

Mystic District Ranger decisions: The Rapid City Journal

Hell Canyon District Ranger decisions: The Rapid City Journal

Northern Hills District Ranger decisions: Black Hills Pioneer

Grand Mesa, Uncompahgre, and Gunnison National Forests

Forest Supervisor decisions: Grand Junction Daily Sentinel

Grand Valley District Ranger decisions: Grand Junction Daily Sentinel

Paonia District Ranger decisions: Delta County Independent

Gunnison District Ranger decisions: Gunnison Country Times

Norwood District Ranger decisions: Telluride Daily Planet

Ouray District Ranger decisions: Montrose Daily Press. A “courtesy” copy will also be published in the Ouray County Plaindealer

Medicine Bow-Routt National Forests and Thunder Basin National Grassland

Forest Supervisor decisions: Laramie Boomerang

Laramie District Ranger decisions: Laramie Boomerang

Douglas District Ranger decisions: Casper Star-Tribune

Brush Creek-Hayden District Ranger decisions: Rawlins Daily Times

Hahns Peak-Bears Ears District Ranger decisions: Steamboat Pilot & Today

Yampa District Ranger decisions: Steamboat Pilot & Today

Parks District Ranger decisions: Jackson County Star

Nebraska National Forests and Grasslands

Forest Supervisor decisions: The Rapid City Journal

Bessey District Ranger decisions: The North Platte Telegraph

Pine Ridge District Ranger decisions: The Rapid City Journal

Fall River District Ranger decisions: The Rapid City Journal

Wall District Ranger decisions: The Rapid City Journal

Fort Pierre District Ranger decisions: The Capital Journal

Pike and San Isabel National Forests and Cimarron and Comanche National Grasslands

Forest Supervisor decisions: Pueblo Chieftain

San Carlos District Ranger decisions: Pueblo Chieftain

South Platte District Ranger decisions: Douglas County News Press

Leadville District Ranger decisions: Herald Democrat

Salida District Ranger decisions: The Mountain Mail

South Park District Ranger decisions: Fairplay Flume

Pikes Peak District Ranger decisions: The Gazette

Cimarron District Ranger decisions: Elkhart Tri-State News

Comanche District Ranger decisions: La Junta Tribune Democrat. A “courtesy” copy will also be published in the Plainsman Herald

Rio Grande National Forest

Forest Supervisor and District Ranger decisions: Valley Courier

San Juan National Forest

Forest Supervisor decisions: Durango Herald

Columbine District Ranger decisions: Durango Herald

Pagosa District Ranger decisions: Pagosa Sun

Dolores District Ranger decisions: Cortez Journal

Shoshone National Forest

Forest Supervisor and District Ranger decisions: Casper Star-Tribune

White River National Forest

Forest Supervisor decisions: The Glenwood Springs Post Independent

Aspen-Sopris District Ranger decisions: Aspen Times

Blanco District Ranger decisions: Herald Times

Dillon District Ranger decisions: Summit Daily

Eagle-Holy Cross District Ranger decisions: Vail Daily

Rifle District Ranger decisions: Citizen Telegram

Beattra Wilson,
Associate Deputy Chief State and Private Forestry, National Forest System.

[FR Doc. 2025-22068 Filed 12-4-25; 8:45 am]

BILLING CODE 3411-15-P